DEPARTMENT OF JUSTICE

Notice of Lodging of Consent Decree Pursuant to the Comprehensive Environmental Response, Compensation, and Liability Act

In accordance with Departmental policy, 28 CFR 50.7, notice is hereby given that a proposed consent decree in United States v. Cooper Industries, LLC, Civil Action No. 4:06-CV-467 RP-TJS, was lodged on September 29, 2006 with the United States District Court for the Southern District of Iowa. Under this Consent Decree, the Settling Defendant will reimburse the United States for response costs incurred or to be incurred for response actions taken at or in connection with the release or threatened release of hazardous substances at the McGraw Edison Superfund Site in Centerville, Appanoose County, Iowa.

The Department of Justice will receive, for a period of thirty (30) days from the date of this publication, comments relating to the proposed consent decree. Comments should be addressed to the Assistant Attorney General, Environmental and Natural Resources Division, P.O. Box 7611, U.S. Department of Justice, Washington, DC 20044-7611, and should refer to United States v. Cooper Industries, LLC, DOJ Ref. 90-11-3-08559.

The proposed consent decree may be examined at the office of the United States Attorney, 110 East Court Avenue, Suite 286, Des Moines, IA 50309-2044 and at U.S. EPA Region 7, 901 N. 5th Street, Kansas City, KS 66101. During the comment period, the consent decree may be examined on the following Department of Justice Web site to http://www.usdoj.gov/enrd/Consent_Decrees.html. A copy of the consent decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $4.50 (without attachments) or $4.75 (with attachments) for United States v. Cooper Industries, LLC, (25 cents per page reproduction cost) payable to the U.S. Treasury.

Robert E. Maher, Jr.,
Assistant Section Chief, Environmental Enforcement Section.

[FR Doc. 06-8741 Filed 10-17-06; 8:45 am]

BILLING CODE 4410-15-M